DEPARTMENT OF THE INTERIOR

Office of the Secretary

National Commission on Indian Trust Administration and Reform

AGENCY: Office of the Secretary, Interior.

ACTION: Notice of meeting; correction.

SUMMARY: The Office of the Secretary published a document in the Federal Register of February 3, 2012, announcing the first meeting of the National Commission on Indian Trust Administration and Reform (the Commission). This notice corrects the times and address of the first meeting and extends the RSVP date to February 29, 2012.

DATES: Effective Date: The Commission's first meeting will occur from 9 a.m.-5 p.m. on March 1, 2012, and 9 a.m.-5 p.m. on March 2, 2012. Attendance is open to the public, but limited space is available. Members of the public who wish to attend should RSVP by February 29, 2012 to: trustcommission@ios.doi.gov.

ADDRESSES: The first meeting will be held at National Park Service, 1201 Eye Street, NW., Conference Room 202, Washington, DC 20005.

FOR FURTHER INFORMATION CONTACT: The Designated Federal Officer, Jodi Gillette, Deputy Assistant Secretary—Indian Affairs, 1849 C Street, NW., Washington, DC 20240; telephone (202) 208-7163; or email to Jodi.Gillette@bia.gov. Members of the public who wish to attend the meeting should RSVP by February 29, 2012, to: trustcommission@ios.doi.gov.

SUPPLEMENTARY INFORMATION:

Corrections

In the Federal Register of February 3, 2012, in FR Doc. 2012-2401, on page 5528, in the first column, correct the times listed in the DATES section with the following:

The Commission's first meeting will occur from 9 a.m.-5 p.m. on March 1, 2012, and 9 a.m.-5 p.m. on March 2, 2012.

In the same issue of the Federal Register, replace the address in the ADDRESSES section with the following: National Park Service, 1201 Eye Street, NW., Conference Room 202, Washington, DC 20005.

Dated: February 22, 2012.
David J. Hayes,
Deputy Secretary.

[FR Doc. 2012-4554 Filed 2-24-12; 8:45 am]

BILLING CODE 4310-W7-P